DEPARTMENT OF HEALTH AND HUMAN SERVICES

National Institutes of Health

Government-Owned Inventions; Availability for Licensing

AGENCY: National Institutes of Health, HHS.

ACTION: Notice.

SUMMARY: The invention listed below is owned by an agency of the U.S. Government and is available for licensing to achieve expeditious commercialization of results of federally-funded research and development. Foreign patent applications are filed on selected inventions to extend market coverage for companies and may also be available for licensing.

FOR FURTHER INFORMATION CONTACT: Theodoric Mattes at 240-627-3827, or theodoric.mattes@nih.gov. Licensing information may be obtained by communicating with the Technology Transfer and Intellectual Property Office, National Institute of Allergy and Infectious Diseases, 5601 Fishers Lane, Rockville, MD 20852; tel. 301-496-2644. A signed Confidential Disclosure Agreement will be required to receive copies of unpublished information related to the invention.

SUPPLEMENTARY INFORMATION: Technology description follows:

Recombinant IgG Monoclonal Antibody-Based Detection of Taenia Antigen In Humans And Pigs

Description of Technology: The pork tapeworm, Taenia solium, is endemic in most of Asia, Latin America, and Sub-Saharan Africa. The risk of infection is increased in regions where pigs are raised in closed proximity to humans, with migration from endemic regions being directly proportional to the prevalence of infection in high-income countries. Human infection by T. solium occurs following oral ingestion of eggs passed in human feces from an infected carrier. The larvae can travel anywhere in the human body. Neurocysticercosis (NCC) occurs when the larvae traverse the blood-brain barrier and penetrate the central nervous system. Diagnosis of NCC is typically made through radiological imaging studies (such as computed tomography or magnetic resonance imaging) to visualize the morphology, stage, and location of the cysts.

Investigators at NIAID have developed the recombinant IgG monoclonal antibody known as TsG10, which can target T. solium circulating antigens. An expression vector to produce TsG10 is available for expression in mammalian cell lines. The resulting construct allows for a scalable, repeatable, and broadly accessible production of monoclonal antibodies for both human and veterinary use. The TsG10 monoclonal antibodies are adaptable for plate-based diagnostic assays like ELISAs, to support a diagnosis of NCC.

This technology is available for licensing for commercial development in accordance with 35 U.S.C. 209 and 37 CFR part 404, as well as for further development and evaluation under a research collaboration.

Potential Commercial Applications:

• Plate-based diagnostic immunoassays, both human and veterinary, for the detection of T. solium circulating antigen

• Production of TsG10 recombinant monoclonal antibodies

Competitive Advantages:

• Detection of active T. solium infection

• Scalable and repeatable production of a monoclonal antibody targeting T. solium

• Materials available for development or licensing

Development Stage:

• Research Material

Inventors: Drs. Thomas B. Nutman, Elise O'Connell, Theodore E. Nash, Siddhartha Mahanty, Hector Garcia, Adriana Paredes, all of NIAID

Intellectual Property: HHS Reference No. E-043-2022-0

Licensing Contact: To license this technology, please contact Theodoric Mattes at 240-627-3827, or theodoric.mattes@nih.gov., and reference E-043-2022-0.

Collaborative Research Opportunity: The National Institute of Allergy and Infectious Diseases is seeking statements of capability or interest from parties interested in collaborative research to further develop, evaluate, or commercialize this technology. For collaboration opportunities, please contact Theodoric Mattes at 240-627-3827, or theodoric.mattes@nih.gov.

Dated: December 5, 2023.
Surekha Vathyam,
Deputy Director, Technology Transfer and Intellectual Property Office, National Institute of Allergy and Infectious Diseases.

[FR Doc. 2023-27114 Filed 12-8-23; 8:45 am]

BILLING CODE 4140-01-P